DEPARTMENT OF THE TREASURY

Treasury Advisory Committee on Commercial Operations of the U.S. Customs Service

AGENCY: Departmental Offices, Treasury.

ACTION: Notice of meeting.

SUMMARY: This notice announces the date, time, and location for the quarterly meeting of the Treasury Advisory Committee on Commercial Operations (COAC), and the provisional agenda for consideration by the Committee.

DATES: The next meeting of the Treasury Advisory Committee on Commercial Operations of the U.S. Customs Service will be held on Friday, March 23, 2001 at 9 a.m. at the Omni Colonnade Hotel, located at 180 Aragon Avenue, Coral Gables, FL 33134 (Tel: 305-441-2600, Fax: 305-444-9706) The meeting is being hosted by Gilbert Lee Sandler, Sandler, Travis & Rosenberg, P.A., 5200 Blue Lagoon Drive, #600, Miami, FL 33126. The duration of the meeting will be approximately four hours (9a to 1p).

FOR FURTHER INFORMATION CONTACT: Timothy E. Skud, Acting Deputy Assistant Secretary, Regulatory, Tariff and Trade (Enforcement), Office of the Under Secretary (Enforcement), Telephone: (202) 622-0230.

At this meeting, the Advisory Committee is expected to pursue the following agenda. The agenda may be modified prior to the meeting.

Agenda

(1) Merchandise Processing Fee (MPF)

(2) CAT (Compliance Assessment Team) Sub Committee

(3) OR & R (Office of Rules & Regulation) Sub Committee

(4) Import Data & Customs entry Sub Committee

(5) Port Uniformity Initiative

(6) Customs Authorization Bills

(7) Status of Customs & Treasury Comments on Revision to Kyoto Convention

SUPPLEMENTARY INFORMATION: The meeting is open to the public; however, participation in the Committee's deliberations is limited to Committee members, Customs and Treasury Department staff, and persons invited to attend the meeting for special presentations. A person other than an Advisory Committee member who wishes to attend the meeting should contact Theresa Manning at (202) 622-0220 or Helen Belt at (202) 622-0230 for pre-clearance.

Dated: February 26, 2001.
Timothy E. Skud,
Acting Deputy Assistant Secretary, Regulatory, Tariff, and Trade (Enforcement).

[FR Doc. 01-4997 Filed 2-28-01; 8:45 am]

BILLING CODE 4810-25-U